Title 3—

The President

Memorandum of July 3, 2007

Assignment of Certain Functions Relating to Nuclear Energy Facilities

Memorandum for the Secretary of Health and Human Services[,] the Secretary of Energy[,] the Secretary of Homeland Security[,] the Chairman of the Nuclear Regulatory Commission[, and] the Director of the Office of Science and Technology Policy

By the authority vested in me as President by the Constitution and the laws of the United States, including section 301 of title 3, United States Code, and section 204(b) of the National Science and Technology Policy, Organization, and Priorities Act of 1976, as amended (42 U.S.C. 6613(b)), the functions of the President under section 127 of the Public Health Security and Bioterrorism Preparedness and Response Act of 2002 (Public Law 107-188) (42 U.S.C. 247d-6b note) are assigned as follows:

(1) the function of making a determination under subsection 127(f) of Public Law 107-188 is assigned to the Director of the Office of Science and Technology Policy; and

(2) the functions of the President under section 127 of Public Law 107-188 other than that assigned under subsection 127(f) are assigned to the Chairman of the Nuclear Regulatory Commission.

In the performance of such functions the Chairman and the Director should consult each other and the Secretaries of Health and Human Services, Energy, and Homeland Security, as appropriate.

The Director is authorized and directed to publish this memorandum in the Federal Register.

[FR Doc. 07-3384

Filed 7-9-07; 9:57 am]

Billing code 3170-W7-P